DEPARTMENT OF TRANSPORTATION

Federal Aviation Administration

14 CFR Part 39

[Docket No. FAA-2025-0742; Project Identifier MCAI-2024-00682-T; Amendment 39-23133; AD 2025-18-06]

RIN 2120-AA64

Airworthiness Directives; Airbus SAS Airplanes

AGENCY: Federal Aviation Administration (FAA), DOT.

ACTION: Final rule.

SUMMARY: The FAA is superseding Airworthiness Directive (AD) 2020-02-14, which applied to certain Airbus SAS Model A350-941 and -1041 airplanes. AD 2020-02-14 required a one-time inspection of the oxygen containers and adjacent panels and applicable corrective actions. Since the FAA issued AD 2020-02-14, it was determined that additional airplanes may be affected by the same unsafe condition. This AD continues to require the actions in AD 2020-02-14 and expands the applicability to include additional airplanes. The FAA is issuing this AD to address the unsafe condition on these products.

DATES: This AD is effective October 23, 2025.

The Director of the Federal Register approved the incorporation by reference of certain publications listed in this AD as of October 23, 2025.

ADDRESSES:

AD Docket: You may examine the AD docket at regulations.gov under Docket No. FAA-2025-0742; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• For Airbus material identified in this AD, contact Airbus SAS, Airworthiness Office—EAL, Rond-Point Emile Dewoitine No: 2, 31700 Blagnac Cedex, France; telephone +33 5 61 93 36 96; fax +33 5 61 93 45 80; email continued-airworthiness.a350@airbus.com; website airbus.com.

• You may view this material at the FAA, Airworthiness Products Section, Operational Safety Branch, 2200 South 216th St., Des Moines, WA. For information on the availability of this material at the FAA, call 206-231-3195. It is also available at regulations.gov under Docket No. FAA-2025-0742.

FOR FURTHER INFORMATION CONTACT: Nicole Tsang, Aviation Safety Engineer, FAA, 2200 South 216th St., Des Moines, WA 98198; phone: 206-231-3959; email: Nicole.S.Tsang@faa.gov.

SUPPLEMENTARY INFORMATION:

Background

The FAA issued a notice of proposed rulemaking (NPRM) to amend 14 CFR part 39 to supersede AD 2020-02-14, Amendment 39-19828 (85 FR 6757, February 6, 2020) (AD 2020-02-14). AD 2020-02-14 applied to certain Airbus SAS Model A350-941 and -1041 airplanes. AD 2020-02-14 required a one-time inspection of the oxygen containers and adjacent panels, and applicable corrective actions. The FAA issued AD 2020-02-14 to address damaged and unlocked fasteners of the oxygen containers and adjacent panels in the passenger supply channels (PSCs), which could result in insufficient clearance between the oxygen container and adjacent panels and prevent the opening of the oxygen containers, and consequent failure of the oxygen masks to deploy and provide supplemental oxygen in case of an in-flight decompression, possibly resulting in injury to cabin occupants.

The NPRM was published in the Federal Register on April 29, 2025 (90 FR 17743). The NPRM was prompted by AD 2024-0220, dated November 20, 2024 (EASA AD 2024-0220) (also referred to as the MCAI), issued by EASA, which is the Technical Agent for the Member States of the European. The MCAI states that since EASA AD 2019-0210, dated August 26, 2019, was issued, it was determined that additional A350 manufacturer serial numbers (airplanes) may be affected by the same unsafe condition.

In the NPRM, the FAA proposed to continue to require the actions in AD 2020-02-14 and expand the applicability to include additional airplanes, as specified in EASA AD 2024-0220. The FAA is issuing this AD to address the unsafe condition on these products.

You may examine the MCAI in the AD docket at regulations.gov under Docket No. FAA-2025-0742.

Discussion of Final Airworthiness Directive

Comments

The FAA received a comment from an anonymous commenter who supported the NPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0220, which specifies procedures for inspecting the oxygen containers and the installation of adjacent panels located in all PSCs, to check that each fastener of each panel/component is locked and to measure the clearance between the oxygen container door lid and the adjacent panel/component. EASA AD 2024-0220 also describes procedures for applicable corrective actions, including attaining minimum clearance, locking any unlocked fasteners, and replacing damaged parts.

The FAA also reviewed Airbus Alert Operators Transmission (AOT) A35P015-19, Revision 01, dated June 19, 2019. This material identifies affected airplanes for the Group 1 airplanes specified in EASA AD 2024-0220.

The FAA also reviewed Airbus AOT A35P023-24, Revision 01, dated July 25, 2024. This material identifies affected airplanes for the Group 2 airplanes specified in EASA AD 2024-0220.

This material is reasonably available because the interested parties have access to it through their normal course of business or by the means identified in the ADDRESSES section.

Costs of Compliance

The FAA estimates that this AD affects 19 airplanes of U.S. registry. The FAA estimates the following costs to comply with this AD:

Estimated Costs for Required Actions
Action | Labor cost | Parts cost | Cost per product | Cost on U.S. operators
Retained actions from AD 2020-02-14 | 4 work-hours × $85 per hour = $340 | $0 | $340 | $5,440 (16 airplanes).
New actions | 4 work-hours × $85 per hour = $340 | 0 | 340 | $1,020 (3 airplanes).

Estimated Costs of On-Condition Actions
Labor cost | Parts cost | Cost per product
1 work-hour × $85 per hour = $85 | * $0 | $85
* The FAA has received no definitive data on the parts costs for the on-condition actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-02-14, Amendment 39-19828 (85 FR 6757, February 6, 2020); and

b. Adding the following new AD:

2025-18-06 Airbus SAS: Amendment 39-23133; Docket No. FAA-2025-0742; Project Identifier MCAI-2024-00682-T.

(a) Effective Date

This airworthiness directive (AD) is effective October 23, 2025.

(b) Affected ADs

This AD replaces AD 2020-02-14, Amendment 39-19828 (85 FR 6757, February 6, 2020) (AD 2020-02-14).

(c) Applicability

This AD applies to Airbus SAS Model A350-941 and -1041 airplanes, certificated in any category, having manufacturer serial numbers (MSNs) listed in Airbus Alert Operators Transmission (AOT) A35P015-19, Revision 01, dated June 19, 2019; and Airbus AOT A35P023-24, Revision 01, dated July 25, 2024.

(d) Subject

Air Transport Association (ATA) of America Code 35, Oxygen.

(e) Unsafe Condition

This AD was prompted by a report that during inspection of the installation of oxygen containers, certain fasteners of the oxygen containers and adjacent panels in the passenger supply channels (PSCs) were found damaged or unlocked, which could result in insufficient clearance between the oxygen container and adjacent panels. This AD was also prompted by a determination that additional airplanes may be affected by the same unsafe condition. The FAA is issuing this AD to address damaged and unlocked fasteners of the oxygen containers and adjacent panels in the PSCs, which could result in insufficient clearance between the oxygen container and adjacent panels. The unsafe condition, if not addressed, could prevent the opening of the oxygen containers and result in failure of oxygen masks to deploy and provide supplemental oxygen supply in case of an in-flight decompression, possibly resulting in injury to cabin occupants.

(f) Compliance

Comply with this AD within the compliance times specified, unless already done.

(g) Requirements

Except as specified in paragraphs (h) and (i) of this AD: Comply with all required actions and compliance times specified in, and in accordance with, European Union Aviation Safety Agency (EASA) AD 2024-0220, dated November 20, 2024 (EASA AD 2024-0220).

(h) Exceptions to EASA AD 2024-0220

(1) Where EASA AD 2024-0220 refers to “09 September 2019 [the effective date of EASA AD 2019-0210],” this AD requires using March 12, 2020 (the effective date of AD 2020-02-14).

(2) Where EASA AD 2024-0220 refers to its effective date, this AD requires using the effective date of this AD.

(3) Where the “Groups” definition in EASA AD 2024-0220 specifies “Group 1 aeroplanes are those having an MSN as listed in the AOT1”, this AD requires replacing that text with “Group 1 airplanes are those having an MSN as listed in Airbus AOT A35P015-19, Revision 01, dated June 19, 2019”.

(4) Where the “Groups” definition in EASA AD 2024-0220 specifies “Group 2 aeroplanes are those having an MSN as listed in the AOT2”, this AD requires replacing that text with “Group 2 airplanes are those having an MSN as listed in Airbus AOT A35P023-24, Revision 01, dated July 25, 2024”.

(5) This AD does not adopt the “Remarks” section of EASA AD 2024-0220.

(i) No Reporting Requirement

Although the material referenced in EASA AD 2024-0220 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(k) Additional Information

For more information about this AD, contact Nicole Tsang, Aviation Safety Engineer, FAA, 2200 South 216th St., Des Moines, WA 98198; phone: 206-231-3959; email: Nicole.S.Tsang@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Airbus Alert Operators Transmission (AOT) A35P015-19, Revision 01, dated June 19, 2019.

(ii) Airbus AOT A35P023-24, Revision 01, dated July 25, 2024.

(iii) European Union Aviation Safety Agency (EASA) AD 2024-0220, dated November 20, 2024.

(3) For Airbus material identified in this AD, contact Airbus SAS, Airworthiness Office—EAL, Rond-Point Emile Dewoitine No: 2, 31700 Blagnac Cedex, France; telephone +33 5 61 93 36 96; fax +33 5 61 93 45 80; email continued-airworthiness.a350@airbus.com; website airbus.com.

(4) For EASA material identified in this AD, contact EASA, Konrad-Adenauer-Ufer 3, 50668 Cologne, Germany; telephone +49 221 8999 000; email ADs@easa.europa.eu. You may find this material on the EASA website at ad.easa.europa.eu.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on September 4, 2025.
Peter A. White,
Deputy Director, Integrated Certificate Management Division, Aircraft Certification Service.

[FR Doc. 2025-18087 Filed 9-17-25; 8:45 am]

BILLING CODE 4910-13-P